DEPARTMENT OF COMMERCE

International Trade Administration

[C-570-913]

Certain New Pneumatic Off-the-Road Tires From the People's Republic of China: Partial Rescission of Countervailing Duty Administrative Review

AGENCY: Import Administration, International Trade Administration, Department of Commerce.

SUMMARY: The Department of Commerce (the Department) is rescinding, in part, the administrative review of the countervailing duty order on certain new pneumatic off-the-road tires (OTR Tires) from the People's Republic of China (PRC) for the period January 1, 2009, through December 31, 2009, with respect to Guizhou Tyre Co., Ltd., Guizhou Advanced Rubber Co., Ltd., and Guizhou Tyre Import and Export Corporation (collectively, Guizhou Tyre). This partial rescission is based on the withdrawal by Guizhou Tyre of its request for a review.

DATES: Effective Date: November 30, 2010.

FOR FURTHER INFORMATION CONTACT: Emily Halle, AD/CVD Operations, Office 6, Import Administration, International Trade Administration, Department of Commerce, 14th Street and Constitution Avenue, NW., Washington, DC 20230; telephone: (202) 482-0176.

SUPPLEMENTARY INFORMATION:

Background

The Department published a notice of opportunity to request an administrative review of the countervailing duty order on OTR Tires from the PRC. See Antidumping or Countervailing Duty Order, Finding, or Suspended Investigation; Opportunity To Request Administrative Review, 75 FR 53635 (September 1, 2010). Guizhou Tyre timely requested an administrative review of the countervailing duty order on OTR Tires from the PRC for the period January 1, 2009, through December 31, 2009. In addition, the Department received timely requests from eight other companies: Tianjin United Tire and Rubber International Co., Ltd. (TUTRIC); Shandong Huitong Tyre Co., Ltd.; Qingdao Hengda Tyres Co., Ltd.; Qingdao Sinorient International Ltd.; Qingdao Qizhou Rubber Co., Ltd.; Techking Tires Limited; Qingda Etyre International Trade Co., Ltd.; and Wengdeng Sanfeng Tyre Co., Ltd. These eight companies only requested reviews of themselves. In accordance with section 751(a)(1) of the Tariff Act of 1930, as amended (the Act) and 19 CFR 351.221(c)(1)(i), the Department published a notice initiating an administrative review of the countervailing duty order. See Initiation of Antidumping and Countervailing Duty Administrative Reviews, 75 FR 66349 (October 28, 2010).

Rescission, in Part, of Countervailing Duty Administrative Review

The Department's regulations provide that the Department will rescind an administrative review if the party that requested the review withdraws its request for review within 90 days of the date of publication of the notice of initiation. See 19 CFR 351.213(d)(1). Guizhou Tyre timely withdrew its request within the 90-day deadline. Therefore, as no other party requested a review of Guizhou Tyre, in accordance with 19 CFR 351.213(d)(1), the Department is rescinding this administrative review of the countervailing duty order with respect to Guizhou Tyre. The Department will choose mandatory respondents from the remaining eight companies for which a review was requested: TUTRIC; Shandong Huitong Tyre Co., Ltd.; Qingdao Hengda Tyres Co., Ltd.; Qingdao Sinorient International Ltd.; Qingdao Qizhou Rubber Co., Ltd.; Techking Tires Limited; Qingda Etyre International Trade Co., Ltd.; and Wengdeng Sanfeng Tyre Co., Ltd.

Assessment

The Department will instruct U.S. Customs and Border Protection (CBP) to assess countervailing duties on all appropriate entries. For Guizhou Tyre, countervailing duties shall be assessed at rates equal to the cash deposit or bonding rate of the estimated countervailing duties required at the time of entry, or withdrawal from warehouse, for consumption, in accordance with 19 CFR 351.212(c)(1)(i). The Department intends to issue appropriate assessment instructions directly to CBP 15 days after publication of this notice.

Notification Regarding Administrative Protective Order

This notice serves as a final reminder to parties subject to administrative protective order (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: November 23, 2010.
Susan H. Kuhbach,
Acting Deputy Assistant Secretary for Antidumping and Countervailing Duty Operations.

[FR Doc. 2010-30147 Filed 11-29-10; 8:45 am]

BILLING CODE 3510-DS-P